Title 3—

The President

Proclamation 10389 of May 4, 2022

Missing or Murdered Indigenous Persons Awareness Day, 2022

By the President of the United States of America

A Proclamation

For generations, Indigenous persons, including American Indians, Alaska Natives and Native Hawaiians, have been forced to mourn a missing or murdered loved one without the answers and support they deserve. On Missing or Murdered Indigenous Persons Awareness Day, we remember these victims and their families, and commit to working with Tribal Nations and Native communities to achieve justice and healing.

The Federal Government has an obligation to ensure that cases of missing or murdered persons are met with swift and effective action. My Administration is fully committed to investigating and resolving these cases through a coordinated law enforcement response, as well as intervention and prevention efforts. We are also dedicated to researching the underlying causes of this violence and to working with Native communities to address them.

The safety and well-being of all Native Americans continues to be a top priority for my Administration. That is why during my first year in office, at the first White House Tribal Nations Summit, I issued an Executive Order directing Federal agencies to improve public safety and criminal justice for Native Americans and to address the crisis of missing or murdered Indigenous people. This includes implementing a coordinated Federal law enforcement strategy that supports Tribal and other local law enforcement efforts. It also strengthens prevention, early intervention, and survivor services while improving data collection, analysis, and information sharing.

For far too long, justice for Indigenous communities has been elusive. We must improve our investigations to resolve missing or murdered cases while supporting victims and their families. Toward that aim, the Department of Justice is working closely with Tribal Nations to develop regionally appropriate guidelines for these cases. The Department of Justice has created a dedicated steering committee to oversee and coordinate this critical work, including an outreach services liaison for Federal criminal cases in Indian Country.

This March, I signed into law the Violence Against Women Act Reauthorization Act of 2022. This important law expands special criminal jurisdiction of Tribal courts to cover non-Native perpetrators of sexual assault, child abuse, stalking, sex trafficking, and assaults on Tribal law enforcement officers on Tribal lands and supports the development of a pilot project to enhance access to safety for survivors in Alaska Native villages.

My Administration understands that Native people, particularly survivors of violence, know best what their communities need to feel safe. That is why we must work hand in hand with Tribal partners through each phase of the justice system to create solutions that are victim-centered, trauma-informed, and culturally appropriate.

Our Nation's failure to address this ongoing tragedy not only demeans the dignity of each Indigenous person who goes missing or is murdered—it undermines the humanity of us all. Today and every day, we must continue to stand up for Indigenous people, and we must never forget the thousands of unsolved cases that continue to cry out for justice and healing. As a Nation, we must answer that call and work together to achieve the promise of America for all Americans.

NOW, THEREFORE, I, JOSEPH R. BIDEN JR., President of the United States of America, by virtue of the authority vested in me by the Constitution and the laws of the United States, do hereby proclaim May 5, 2022, as Missing or Murdered Indigenous Persons Awareness Day. I call on all Americans and ask all levels of government to support Tribal governments and Tribal communities' efforts to increase awareness of the issue of missing or murdered Indigenous persons through appropriate programs and activities.

IN WITNESS WHEREOF, I have hereunto set my hand this fourth day of May, in the year of our Lord two thousand twenty-two, and of the Independence of the United States of America the two hundred and forty-sixth.

[FR Doc. 2022-10073

Filed 5-6-22; 11:15 am]

Billing code 3395-F2-P